DEPARTMENT OF JUSTICE

[CPCLO Order No. 006-2015]

Privacy Act of 1974; System of Records

AGENCY: Department of Justice.

ACTION: Notice; correction.

SUMMARY: The Department of Justice (the Department or DOJ) published a system of records notice in the Federal Register on March 26, 2015 (80 FR 16025), which added a new system of records. The notice text did not reference the correct number to the accompanying proposed rule in the preamble portion of the notice. This document corrects the notice by revising the citation in the preamble to remove reference to 28 CFR 16.135.

DATES: This correction is effective on April 30, 2015.

FOR FURTHER INFORMATION CONTACT: Robin Moss, Privacy Analyst, 202-514-8568.

Correction

In the Federal Register of March 26, 2015, in FR Doc. 2015-06934, on page 16025, in the SUPPLEMENTARY INFORMATION section, second column, line 16, and third column, line one, correct the reference to the Code of Federal Regulation to read:

28 CFR 16.136

Dated: April 2, 2015.
Kristi Lane Scott,
Deputy Director, Office of Privacy and Civil Liberties, United States Department of Justice.

[FR Doc. 2015-10107 Filed 4-29-15; 8:45 am]

BILLING CODE 4410-FB-P